FEDERAL COMMUNICATIONS COMMISSION

47 CFR Part 25

[IB Docket No. 00-203; FCC 01-177]

Blanket Licensing for Small Aperture Terminals in the C-Band and Routine Licensing of 3.7 Meter Transmit and Receive Stations at C-Band

AGENCY: Federal Communications Commission.

ACTION: Final rule.

SUMMARY: This document adopts rules that are designed to provide wider access to electronic commerce in underserved rural areas of America by facilitating the deployment of small antenna terminals in C-band satellite networks under a single authorization, with prior frequency coordination.

DATES: Effective July 12, 2001.

FOR FURTHER INFORMATION CONTACT: Edward R. Jacobs, Planning and Negotiations Division, International Bureau, (202) 418-0624 or via electronic mail: ejacobs@fcc.gov.

SUPPLEMENTARY INFORMATION: This is a summary of the Commission's First Report and Order in IB Docket No. 00-203, FCC 01-177, adopted May 23, 2001 and released May 25, 2001. The Notice of Proposed Rulemaking (NPRM) in IB Docket No. 00-203, FCC 00-369, was adopted October 13, 2000 and released October 24, 2000. 65 FR 70541, November 24, 2000. The full text of this Commission decision is available for inspection and copying during normal business hours in the FCC Reference Center (Room CY-A257) 445 12th Street, SW., Washington, DC and may also be purchased from the Commission copy contractor, International Transcription Services (ITS), Inc., (202) 857-3800, 1231 20th Street, NW., Washington, DC 20036.

Summary of the First Report and Order

In the First Report and Order in this proceeding, the Commission amends part 25 of its rules to give operators the option of obtaining licenses for a limited class of small aperture terminal earth station networks in the C-band (CSAT), under a single authorization. This option is available only to those seeking licensing of CSAT networks that use no more than 40 MHz of C-band spectrum for each of no more than three satellite locations within the visible geostationary satellite arc. That is, this option provides for streamline licensing of a system that uses no more than 20 MHz of uplink and 20 MHz of downlink spectrum for each of a maximum of 3 satellites. The 20 MHz of uplink and 20 MHz of downlink spectrum may be different for each of the 3 satellites. Among other things, these procedures require CSAT applicants to complete frequency coordination for each individual earth station before bringing it into use. The Commission finds that these changes will promote more efficient and equitable use of C-band spectrum shared by the fixed service (FS) and fixed-satellite service (FSS). In those cases where these streamlined procedures can be used, it will also alleviate concerns that individual licensing of earth stations in a network of small aperture terminal earth stations could result in longer overall license processing times, increased consumer costs, and additional administrative burdens. In addition, where CSAT earth stations have been coordinated, the streamlined rules allow providers to operate on a conditional basis until final approval, facilitating deployment of systems and service to the public.

Final Regulatory Flexibility Analysis

As required by the Regulatory Flexibility Act (RFA), an Initial Regulatory Flexibility Analysis (IRFA) of the possible significant economic impact on small entities was incorporated in the FWCC/Onsat/Hughes NPRM. 65 FR 70541, November 24, 2000. The Commission sought written public comments on the proposals in the FWCC/Onsat/Hughes NPRM including comment on the IRFA. This present Final Regulatory Flexibility Analysis (FRFA) conforms to the RFA.

A. Need for, and Objectives of, the Rules

In this First Report and Order, the Commission provides for a streamlined licensing procedure that will allow the licensing of large networks of small earth station terminals in the 4 and 6 GHz bands. These streamlined procedures will better enable the rapid delivery of earth station services, including broadband access, to rural Americans.

B. Summary of Significant Issues Raised by Public Comments in Response to the IRFA

No comments were submitted in direct response to the IRFA.

C. Description and Estimate of the Number of Small Entities to Which the Rules Will Apply

The RFA directs agencies to provide a description of and, where feasible, an estimate of the number of small entities that may be affected by the adopted rules. The RFA generally defines the term “small entity” as having the same meaning as the terms “small business,” “small organization,” and “small governmental jurisdiction.” In addition, the term “small business” has the same meaning as the term “small business concern” under the Small Business Act. A small business concern is one which: (1) is independently owned and operated; (2) is not dominant in its field of operation; and (3) satisfies any additional criteria established by the Small Business Administration (SBA). A small organization is generally “any not-for-profit enterprise which is independently owned and operated and is not dominant in its field.”

D. International Services

The Commission has not developed a definition of small entities applicable to licensees in the international services. Therefore, the applicable definition of small entity is generally the definition under the SBA rules applicable to Communications Services, Not Elsewhere Classified (NEC). This definition provides that a small entity is one with $11.0 million or less in annual receipts. According to the Census Bureau, there were a total of 848 communications service providers, NEC, in operation in 1992, and a total of 775 had annual receipts of less than $9.999 million. The Census report does not provide more precise data.

1. Fixed Satellite Transmit/Receive Earth Stations. Currently there are over 2000 operational fixed satellite transmit/receive earth stations authorized for use in the C-band. We do not request or collect annual revenue information, and thus are unable to estimate the number of earth stations that would constitute a small business under the SBA definition.

2. Mobile Satellite Earth Station Feeder Links. There are currently no licenses for MSS earth station feeder links in the frequency bands addressed in this First Report and Order.

3. Space Stations (Geostationary). Commission records reveal that there are 6 space station licensees at C-band. We do not request nor collect annual revenue information, and thus are unable to estimate of the number of geostationary space stations that would constitute a small business under the SBA definition, or apply any rules providing special consideration for Space Station (Geostationary) licensees that are small businesses.

4. Space Stations (Non-Geostationary). There are currently no Non-Geostationary Space Station licensees at C-band.

5. Direct Broadcast Satellites. There are currently no DBS licensees at C-band.

6. Auxiliary, Special Broadcast and other program distribution services. This service involves a variety of transmitters, generally used to relay broadcast programming to the public (through translator and booster stations) or within the program distribution chain (from a remote news gathering unit back to the station). At the frequencies under consideration in this proceeding there are no transmissions of this type directly to the public. The Commission has not developed a definition of small entities applicable to broadcast auxiliary licensees. Therefore, the applicable definition of small entity is the definition under the Small Business Administration (SBA) rules applicable to radio broadcasting stations (SIC 4832) and television broadcasting stations (SIC 4833). These definitions provide, respectively, that a small entity is one with either $5.0 million or less in annual receipts or $10.5 million in annual receipts. 13 CFR 121.201, SIC CODES 4832 and 4833. The numbers of these stations are very small. The FCC does not collect financial information on any broadcast facility and the Department of Commerce does not collect financial information on these auxiliary broadcast facilities. We believe, however, that most, if not all, of these auxiliary facilities could be classified as small businesses by themselves. We also recognize that most of these types of services are owned by a parent station which, in some cases, would be covered by the revenue definition of small business entity discussed above. These stations would likely have annual revenues that exceed the SBA maximum to be designated as a small business (as noted, either $5 million for a radio station or $10.5 million for a TV station). Furthermore, they do not meet the Small Business Act's definition of a “small business concern” because they are not independently owned and operated.

7. Microwave Services. Microwave services includes common carrier, private operational fixed, and broadcast auxiliary radio services. At present, there are over 8500 common carrier licensees, and approximately 1800 private operational fixed and broadcast auxiliary radio licensees in the microwave services at C-band. Inasmuch as the Commission has not yet defined a small business with respect to microwave services, we will utilize the SBA's definition applicable to radiotelephone companies—i.e., an entity with no more than 1,500 persons. 13 CFR 121.201, SIC CODE 4812. We estimate, for this purpose, that all of the Fixed Microwave licensees (excluding broadcast auxiliary licensees) would qualify as small entities under the SBA definition for radiotelephone companies.

E. Description of Projected Reporting, Recordkeeping, and Other Compliance Requirements

The Commission's existing rules in part 25 on FSS operations contain reporting requirements for FSS systems, and we modify these reporting requirements to eliminate duplicative costs of filing multiple applications. In addition, we add an annual reporting requirement to indicate the number of satellite earth stations actually brought into service, those deactivated during the year, and a report of any changes in satellite location applicable to the CSAT network. The proposed streamlined licensing procedures do not affect small entities disproportionately and it is likely no additional outside professional skills are required to complete the annual report indicating the number of small antenna earth stations actually brought into service.

F. Steps Taken To Minimize Significant Economic Impact on Small Entities, and Significant Alternatives Considered

The FWCC/Onsat/Hughes NPRM solicited comment on several alternatives for streamlined licensing of CSATs at C-band. This First Report and Order considered comments offering alternatives, and has acted in response to stated concerns and suggestions, particularly those representing significant agreement or consensus by commenters. The decisions of this First Report and Order should positively impact both large and small businesses by providing a faster, more efficient, and less economically burdensome licensing procedure. The streamlined licensing service rules provide for consolidation of licensing for small antenna earth stations and a continued coordination requirement designed to ensure that these new satellite services will not cause harmful interference to existing terrestrial services. These rules substitute a single requirement to annually report the number of satellite earth stations brought into service in the last year, for the current requirement to individually license these earth stations. As Previously noted, this change should minimize the impact on small entities.

G. Report to Congress

The Commission will send a copy of this First Report and Order including this FRFA, in a report to be sent to Congress pursuant to the Small Business Regulatory Enforcement Fairness Act of 1966, see 5 U.S.C. 801(a)(1)(A). In addition, the Commission will send a copy of the First Report and Order, including this FRFA, to the Chief Counsel for Advocacy of the Small Business Administration. A copy of this First Report and Order and FRFA (or summaries thereof) will also be published in the Federal Register. See 5 U.S.C. 604(b).

Ordering Clauses

Pursuant to sections 4(i), 7(a), 303(c), 303(f), 303(g), and 303(r) of the Communications Act of 1934, as amended, 47 U.S.C. 154(i), 157(a), 303(c), 303(f), 303(g), and 303(r), this First Report and Order is hereby Adopted.

Part 25 of the Commission's rules Is Amended as set forth, effective thirty days after publication in the Federal Register.

The Commission's Consumer Information Bureau, Reference Information Center, SHALL SEND a copy of this First Report and Order, including the Final Regulatory Flexibility Analysis, to the Chief, Counsel for Advocacy of the Small Business Administration.

List of Subjects in 47 CFR Part 25

Communications common carriers, Communications, Radio, Satellites, Telecommunications.

Federal Communications Commission.
Magalie Roman Salas,
Secretary.

Final Rule

For the reasons discussed in the preamble, the Federal Communications Commission amends 47 CFR part 25 as follows:

PART 25—SATELLITE COMMUNICATIONS

1. The authority citation for part 25 continues to read as follows:

Authority: 47 U.S.C. 701-744. Interprets or applies sec. 303, 47 U.S.C. 303. 47 U.S.C. sections 154, 301, 302, 303, 307, 309 and 332, unless otherwise noted.

2. Section 25.115 is amended by redesignating paragraph (c) as (c)(1) and by adding a new paragraph (c)(2) to read as follows:

§ 25.115 Application for earth station authorizations.

* * * * *

(c)(2) Large Networks of Small Antennas operating in the 4/6 GHz frequency bands with U.S.-licensed or non-U.S. licensed satellites for domestic services (CSATs). Applications to license small antenna network systems operating in the standard C-Band, 3700-4200 MHz and 5925-6425 MHz frequency band shall be filed electronically on FCC Form 312, Main Form and Schedule B.

(i) An initial lead application providing a detailed overview of the complete network shall be filed. Such lead applications shall fully identify the scope and nature of the service to be provided, as well as the complete technical details of each representative type of small antenna (less than 4.5 meters) that will operate within the network. Such lead applications for a single CSAT system must identify:

(A) No more than three discrete geostationary satellites to be accessed;

(B) The amount of frequency bandwidth sought, up to a maximum of 20 MHz of spectrum in each direction at each of the satellites (The same 20 MHz of uplink and 20 MHz of downlink spectrum at each satellite would be accessible by all CSAT earth stations in the system. The 20 MHz of uplink and 20 MHz of downlink spectrum need not be the same at each satellite location);

(C) The maximum number of earth station sites;

(ii) Following the issuance of a license for the lead application, the licensee shall notify the Commission of the complete technical parameters of each individual earth station site before that site is bought into operation under the lead authorization. Full frequency coordination of each individual site (e.g., for each satellite and the spectrum associated therewith) shall be completed prior to filing Commission notification. The coordination must be conducted in accordance with § 25.203. Such notification shall be done by electronic filing and shall be consistent with the technical parameters of Schedule B of FCC Form 312.

(iii) Following successful coordination of such an earth station, if the earth station operator does not file a lead application or a Schedule B within six months after it successfully completes coordination, it will be assumed that such frequency use is no longer desired, unless a second notification has been received within ten days prior to the end of the six month period. Such renewal notifications must be sent to all parties concerned. If the lead application or Schedule B, or renewal notification, is not timely received, the coordination will lapse and the licensee must re-coordinate the relevant earth stations if it still wishes to bring them into operation.

(iv) Operation of each individual site may commence immediately after the public notice is released that identifies the notification sent to the Commission and if the requirements of paragraph (c)(2)(vi) of this section are met. Continuance of operation of each station for the duration of the lead license term shall be dependent upon successful completion of the normal public notice process. If any objections are received to the new station prior to the end of the 30 day comment period of the Public Notice, the licensee shall immediately cease operation of those particular stations until the coordination dispute is resolved and the CSAT licensee informs the Commission of the resolution. If the requirements of paragraph (c)(2)(vi) of this section are not met, operation may not commence until the Commission issues the public notice acting on the CSAT terminal authorization.

(v) Each CSAT licensee shall annually provide the Commission an updated list of all operational earth stations in its system. The annual list shall also include a list of all earth stations deactivated during the year and identification of the satellites providing service to the network as of the date of the report.

(vi) Conditional authorization. (A) An applicant for a new CSAT radio station or modification of an existing CSAT station authorized under paragraph (c)(2)(i) of this section in the 3700-4200; or 5925-6425 MHz bands may operate the proposed station during the pendency of its application after the release of the public notice accepting the notification for filing that complies with paragraph (c)(2)(ii) of this section. The applicant, however, must first certify that the following conditions are satisfied:

(1) The frequency coordination procedures of § 25.203 have been successfully completed;

(2) The antenna structure has been previously studied by the Federal Aviation Administration and determined to pose no hazard to aviation safety as required by subpart B of part 17 of this chapter; or the antenna or tower structure does not exceed 6.1 meters above ground level or above an existing man-made structure (other than an antenna structure), if the antenna or tower has not been previously studied by the Federal Aviation Administration and cleared by the FCC;

(3) The grant of the application(s) does not require a waiver of the Commission's rules (with the exception of a request for waiver pertaining to fees);

(4) The applicant has determined that the facility(ies) will not significantly affect the environment as defined in § 1.1307 of this chapter;

(5) The station site does not lie within 56.3 kilometers of any international border or within a radio “Quiet Zone” identified in § 1.924 of this chapter; and

(6) The filed application is consistent with the proposal that was coordinated pursuant to § 25.251.

(B) Conditional authority ceases immediately if the Schedule B is returned by the Commission because it is not accepted for filing.

(C) A conditional authorization pursuant to paragraphs (c)(2)(vi)(A) and (c)(2)(vi)(B) of this section is evidenced by retaining a copy of the Schedule B notification with the station records. Conditional authorization does not prejudice any action the Commission may take on the subject application(s) or the Schedule B notifications.

(D) Conditional authority is accepted with the express understanding that such authority may be modified or cancelled by the Commission at any time without hearing if, in the Commission's discretion, the need for such action arises. An applicant operating pursuant to this conditional authority assumes all risks associated with such operation, the termination or modification of the conditional authority, or the subsequent dismissal or denial of its application(s).

(E) The copy of the Schedule B notification form must be posted at each station operating pursuant to this section.

(vii) Period of construction. Construction of each earth station must be completed and the station must be brought into regular operation within twelve months from the date that action is taken to authorize that station to operate under the lead authorization, except as may be otherwise determined by the Commission for any particular application.

* * * * *

3. Section 25.134 is amended by revising the subject heading, by redesignating paragraph (a) as (a)(1) and adding a heading to newly designated paragraph (a)(1), by adding a new paragraph (a)(2), and by adding a heading to paragraph (b) to read as follows:

§ 25.134 Licensing provisions of Very Small Aperture Terminal (VSAT) and C-band Small Aperture Terminal (CSAT) networks.

(a)(1) VSAT networks operating in the 12/14 GHz bands. * * *

(a)(2) Large Networks of Small Antennas operating in the 4/6 GHz frequency bands. All applications for digital and/or analog operations will be routinely processed provided the network employs antennas that are 4.5 meter or larger in diameter, that are consistent with § 25.209, the power levels are consistent with §§ 25.211(d) and 25.212(d), and frequency coordination has been satisfactorily completed. The use of smaller antennas or non-consistent power levels require the filing of an initial lead application (§ 25.115(c)(2)) that includes all technical analyses required to demonstrate that unacceptable interference will not be caused to any and all affected adjacent satellite operators by the operation of the non-conforming earth station.

(b) VSAT networks operating in the 12/14 GHz bands. * * *

* * * * *

[FR Doc. 01-14803 Filed 6-11-01; 8:45 am]

BILLING CODE 6712-01-P